DEPARTMENT OF HOUSING AND URBAN DEVELOPMENT

[Docket No. FR-7039-N-08]

60-Day Notice of Proposed Information Collection: Federal Labor Standards Monitoring Review Guides; OMB Control No.: 2501-Pending

AGENCY: Office of Davis-Bacon and Labor Standards, Field Policy and Management, HUD.

ACTION: Notice.

SUMMARY: HUD is seeking approval from the Office of Management and Budget (OMB) for the new information collection described below. In accordance with the Paperwork Reduction Act, HUD is requesting comment from all interested parties on the proposed collection of information. The purpose of this notice is to allow for 60 days of public comment.

DATES: Comments Due Date: February 22, 2022.

ADDRESSES: Interested persons are invited to submit comments regarding this proposal. Comments should refer to the proposal by name and/or OMB Control Number and should be sent to: Patricia Wright, Program Analyst, Office of Field Policy and Management, Department of Housing and Urban Development, 451 7th Street SW, Washington, DC 20410, Room 7108, or by email at patricia.wright@hud.gov for a copy of the proposed forms or other available information.

FOR FURTHER INFORMATION CONTACT: Anna Guido, Reports Management Officer, QMAC, U.S. Department of Housing and Urban Development, 451 7th Street SW, Washington, DC 20410, telephone (202) 402-5535 (this is not a toll free number) or email Anna Guido at anna.p.guido@hud.gov for copies of the proposed forms and other available information.

A. Overview of Information Collection

Title of Information Collection: Federal Labor Standards Monitoring Review Guides.

OMB Approval Number: Pending.

Type of Request: New.

Form Number:

• HUD-4741 Federal Labor Standards Agency On-Site Monitoring Review Guide.

• HUD-4742 Federal Labor Standards Agency Remove Monitoring Review Guide.

• HUD-4743 Federal Labor Standards State CDBG and HOME Monitoring Review Guide.

Description of the need for the information and proposed use: HUD will use the information collected to ensure Local Contracting Agencies (Public Housing Agencies, Tribally Designated Housing Entities, Department of Hawaiian Home Lands, and HUD grantees) are compliant with Federal labor standards provisions. Based on the information provided, a HUD labor standards specialist determines if there are any findings or concerns (non-compliance with statutory, regulatory, and program requirements) that need to be addressed. If there are findings or concerns, the labor standards specialist will work with the Local Contracting Agency (LCA) to resolve the violation until the LCA is compliant again.

Respondents: HUD recipients of public housing financial assistance, certain HUD. recipients of housing and community development financial assistance, certain other HUD grantees.

Estimated Number of Respondents:

Information collection | Number of respondents | Frequency of response | Responses per annum | Burden hours per response | Annual burden hours | Hourly cost per response | Total cost
HUD-4741 On-Site Monitoring Review Guide | 66.00 | 1.00 | 66.00 | 0.50 | 33.00 | $42.01 | $1,386.33
HUD-4742 Remote Monitoring Review Guide | 66.00 | 1.00 | 66.00 | 8.00 | 528.00 | 42.01 | 22,181.28
HUD-4743 State CDBG/HOME Monitoring Review Guide | 65.00 | 1.00 | 65.00 | 0.50 | 32.50 | 42.01 | 1,365.33
Total | 197.00 |  | 197.00 | 9.00 | 593.50 |  | 24,932.94

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: The Paperwork Reduction Act of 1995, 44 U.S.C., Chapter 35, as amended.

Krista Mills,
Director, Office of Field Policy and Management.

[FR Doc. 2021-27627 Filed 12-20-21; 8:45 am]

BILLING CODE 4210-67-P